DEPARTMENT OF STATE

[Public Notice 6357]

Determination and Certification Under Section 649(e)(2) of the Department of State, Foreign Operations, and Related Programs Approprations Act, 2008

Pursuant to the authority vested in me as Secretary of State, including under section 649(e) of the Department of State, Foreign Operations, and Related Programs Appropriations Act, 2008 (Div. J, Pub. L. 110-161), I hereby determine and certify that the Government of Colombia is meeting the conditions described in Section 649(e)(2) of the FY 2008 SFOAA, and that I have consulted with Congress as consistent with the latter.

This Determination shall be published in the Federal Register and copies shall be transmitted to the appropriate committees of Congress.

Dated: August 28, 2008.
Condoleezza Rice,
Secretary of State, Department of State.

[FR Doc. E8-21017 Filed 9-9-08; 8:45 am]

BILLING CODE 4710-29-P